Proclamation 10059 of July 24, 2020

National Korean War Veterans Armistice Day, 2020

By the President of the United States of America

A Proclamation

Sixty-seven years ago today, guns fell silent along the Korean Demilitarized Zone after more than 3 years of brutal fighting to defeat the expansion of communism on the Korean Peninsula. On National Korean War Veterans Armistice Day, we pause to remember the uncommon courage and sacrifice of ordinary Americans who fought to defend freedom and protect the values we hold dear.

This year marks the 70th anniversary of the start of the Korean War. When the conflict began, Americans were still rebuilding their lives in the aftermath of World War II, enjoying the blessings of peace and looking toward a future filled with hope and prosperity. When freedom and democracy were under threat on the Korean Peninsula, however, 2 million Americans left their homes, put on our Nation's uniform, and answered their country's call to duty. Their resolve was tried and tested in once obscure and unfamiliar places, such as Pork Chop Hill, Heartbreak Ridge, Chipyong-ni, Pusan, and the Chosin Reservoir, and in unnamed locations known only by grid coordinates or hilltop elevations. Alongside tens of thousands of coalition troops from our allies around the world, these individuals fought, bled, died, went missing, and suffered brutal captivity to defeat a determined foe amid the harshest of conditions, including sweltering heat, bone-numbing cold, and deep snow that buried valleys and rugged ridgelines. Their unquestioned valor, determination, and patriotism halted communist aggression and restored liberty and dignity for the South Korean people. In our Nation's Capital, the black granite wall of the Korean War Veterans Memorial stands as a testament to their sacrifice, etched with the words “Freedom is Not Free.” In total, more than 36,000 Americans gave their lives in the Korean War, more than 103,000 were wounded, and nearly 8,000 went missing in action.

Today, the Republic of Korea, once decimated in the aftermath of the war, is one of the world's most vibrant, dynamic, and economically prosperous democracies—and one of our strongest allies. Our Armed Forces continue to proudly serve side-by-side with our Korean military counterparts. This ironclad alliance, forged in war and reinforced by a shared love of liberty and deep ties of friendship, is vital to peace and stability in both Asia and the world.

As we commemorate the 67th anniversary of the Korean War Armistice, we renew our commitment to the principles of liberty for which our Korean War veterans so valiantly fought. We are eternally grateful for the families that endured the unimaginable sacrifices and heartache of war, and we are thankful for all the men and women who helped change the fate of a nation. The 38 months of bloody warfare represent the honorable legacy of a selfless and courageous generation of American patriots.

NOW, THEREFORE, I, DONALD J. TRUMP, President of the United States of America, by virtue of the authority vested in me by the Constitution and the laws of the United States, do hereby proclaim July 27, 2020, as National Korean War Veterans Armistice Day. I call upon all Americans to observe this day with appropriate ceremonies and activities that honor and give thanks to our distinguished Korean War Veterans.

IN WITNESS WHEREOF, I have hereunto set my hand this twenty-fourth day of July, in the year of our Lord two thousand twenty, and of the Independence of the United States of America the two hundred and forty-fifth.

[FR Doc. 2020-16593

Filed 7-28-20; 11:15 am]

Billing code 3295-F0-P